DEPARTMENT OF DEFENSE

Office of the Secretary

Strategic Environmental Research and Development Program Scientific Advisory Board; Notice of Federal Advisory Committee Meeting

AGENCY: Under Secretary of Defense for Acquisition Technology and Logistics, Department of Defense.

ACTION: Notice of Federal Advisory Committee meeting.

SUMMARY: The Department of Defense (DoD) is publishing this notice to announce that the following Federal Advisory Committee meeting of the Strategic Environmental Research and Development Program Scientific Advisory Board will take place.

DATES:

Day 1—Open to the public Wednesday, September 13, 2017 from 8:30 a.m. to 4:50 p.m.

Day 2—Open to the public Thursday, September 14, 2017 from 8:30 a.m. to 3:40 p.m.

ADDRESSES: The address of the open meeting is the Potomac Institute for Policy Studies, 901 North Stuart Street, Suite 200, Arlington, VA 22203.

FOR FURTHER INFORMATION CONTACT: Herb Nelson, 571-372-6400 (Voice), herbert.h.nelson10.civ@mail.mil (Email). Mailing address is SERDP Office, 4800 Mark Center Drive, Suite 17D03, Alexandria, VA 22350-3605. Web site: https://www.serdp-estcp.org/About-SERDP-and-ESTCP/About-SERDP/Scientific-Advisory-Board. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

This notice is published in accordance with Section 10(a)(2) of the Federal Advisory Committee Act (Pub. L. 92-463).

Purpose of the Meeting: The purpose of the September 13-14, 2017 meeting is to review new start research and development projects requesting Strategic Environmental Research and Development Program funds as required by the SERDP Statute, U.S. Code—Title 10, Subtitle A, Part IV, Chapter 172, § 2904.

Agenda:

Wednesday, September 13, 2017: 8:30 a.m. Convene/Opening Remarks—Dr. Joseph Hughes, Chair; 8:40 a.m. Weapons Systems and Platforms Overview—Dr. Robin Nissan, Weapons Systems and Platforms Program Manager; 8:50 a.m. WP18-C1-1074 (WP18-1074): Formation of Detergent Stabilized Oil-Water Emulsion in Bilge Water and a Method to Thwart the Same (FY18 New Start)—Dr. Manoj Chaudhury, Lehigh University; 9:35 a.m. WP18-C1-1215 (WP18-1215): Relating the Phase, Flow, and Coalescence Behavior of Complex Shipboard Emulsions to the Physical and Chemical Properties of Model Surfactant-Oil-Water Systems (FY18 New Start)—Dr. John Howarter, Purdue University; 10:20 a.m. Break; 10:35 a.m. WP18-C1-1031 (WP18-1031): Understanding Shipboard Oil/Water Emulsions Using Macro- and Micro-scale Flows (FY18 New Start)—Dr. Cari Dutcher, University of Minnesota; 11:20 a.m. Weapons Systems and Platforms Overview—Dr. Robin Nissan, Weapons Systems and Platforms Program Manager; 11:30 a.m. WP18-C3-1203 (WP18-1203): MTNI-based Replacement for Comp B in a Printed M67 Grenade (FY18 New Start)—Dr. Karl Oyler, U.S. Army RDECOM-ARDEC; 12:15 p.m. Lunch; 1:15 p.m. WP18-C3-1299 (WP18-1299): A “Green” Propylnitroguanidine (PrNQ) Based Solution for Comp B Applications (FY18 New Start)—Dr. Chase Munson, U.S. Army Research Laboratory; 2:00 p.m. WP18-F3-1468 (WP18-1468): Tactical Solid Rocket Motor Propellant Systems that Eliminate Isocyanates and Ammonium Perchlorate (Follow-On to FY14 SEED Project)—Dr. Andrew Guenthner, Air Force Research Laboratory; 2:45 p.m. Break; 3:00 p.m. Weapons Systems and Platforms Overview—Dr. Robin Nissan, Weapons Systems and Platforms Program Manager; 3:10 p.m. WP18-C4-1176 (WP18-1176): From Waste Steel to Weapons: Additive Manufacturing Enabled Agile Manufacturing (FY18 New Start)—Dr. Diran Apelian, Worcester Polytechnic Institute; 3:55 p.m. Environmental Restoration Overview—Dr. Andrea Leeson, Environmental Restoration Program Manager; 4:05 p.m. ER18-C3-1303 (ER18-1303): Treatment Media for Control of Persistent Organic Pollutants and Metals in Stormwater (FY18 New Start)—Dr. Birthe Kjellerup, University of Maryland; 4:50 p.m. Public Discussion/Adjourn for the day.

Thursday, September 14, 2017: 8:30 a.m. Convene—Dr. Joseph Hughes, Chair; 8:40 a.m. Environmental Restoration Overview—Dr. Andrea Leeson, Environmental Restoration Program Manager; 8:50 a.m. ER18-C3-1371 (ER18-1371): Development of Tools to Inform the Selection of Stormwater Controls at DoD Bases to Limit Potential Sediment Recontamination (FY18 New Start)—Dr. Danny Reible, Texas Tech University; 9:35 a.m. ER18-C3-1145 (ER18-1145): Prevention of Sediment Recontamination by Improved BMPs to Remove Organic and Metal Contaminants from Stormwater Runoff (FY18 New Start)—Dr. Richard Luthy, Stanford University; 10:20 a.m. Break; 10:35 a.m. ER18-C3-1230 (ER18-1230): Development, Evaluation, and Technology Transfer of BMPs for Optimizing Removal of PAHs, PCBs, PFASs, and Metals from Stormwater at DoD Sites (FY18 New Start)—Dr. Staci Simonich, Oregon State University; 11:20 a.m. Environmental Restoration Overview—Dr. Andrea Leeson, Environmental Restoration Program Manager; 11:30 a.m. ER18-C4-1428 (ER18-1428): Drinking Water Treatment Residuals as Material for In Situ Capping of Metal Contaminated Sediments (FY18 New Start)—Dr. Jean-Claude Bonzongo, University of Florida; 12:15 p.m. Lunch; 1:15 p.m. Munitions Response Overview—Dr. Herbert Nelson, Munitions Response Program Manager; 1:25 p.m. MR18-C1-1051 (MR18-1051): Simulation, Signal Extraction, and Augmented Visualization for 3D BOSS data (FY18 New Start)—Dr. Timothy Marston University of Washington; 2:10 p.m. MR18-C1-1406 (MR18-1406): Demonstration of Physics-Based Inversions of Multibeam Echosounder for Sediment Properties (FY18 New Start)—Dr. Brian Hefner, University of Washington; 2:55 p.m. Break; 3:10 p.m. Strategy Session; 3:40 p.m. Public Discussion/Adjourn meeting.

Meeting Accessibility: The meeting location has proper and working facilities for those with disabilities. Please contact the Designated Federal Officer (DFO) if there are any issues.

Written Statements: Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda. All written statements shall be submitted to the DFO for the Strategic Environmental Research and Development Program, Scientific Advisory Board. The DFO will ensure that the written statements are provided to the membership for their consideration. Time is allotted at the close of each meeting day for the public to make comments.

Oral Statements: Oral comments are allowed during the public discussion portion of the meeting agenda. Oral comments are limited to 5 minutes per person.

Dated: August 7, 2017.
Aaron Siegel,
Alternate OSD Federal Register Liaison Officer, Department of Defense.

[FR Doc. 2017-16897 Filed 8-9-17; 8:45 am]

BILLING CODE 5001-06-P